DEPARTMENT OF TRANSPORTATION

Federal Aviation Administration

14 CFR Part 39

[Docket No. 2002-NM-212-AD]

RIN 2120-AA64

Airworthiness Directives; McDonnell Douglas Model 717-200 Airplanes

AGENCY: Federal Aviation Administration, DOT.

ACTION: Notice of proposed rulemaking (NPRM).

SUMMARY: This document proposes the adoption of a new airworthiness directive (AD) that is applicable to certain McDonnell Douglas Model 717-200 airplanes. This proposal would require a general visual inspection to detect corrosion of the left- and right-hand horizontal stabilizer hinge fitting bolts, barrel nuts, and the associated holes in the horizontal stabilizer structure, and to detect corrosion of the left- and right-hand elevator sector pinch bolts and associated holes, as applicable; and corrective actions, if necessary. This action is necessary to detect and correct corrosion of the left- and right-hand horizontal stabilizer hinge fitting bolts, barrel nuts, and associated holes in the horizontal stabilizer structure, and the left- and right-hand elevator sector pinch bolts and associated holes, which could lead to loss of a hinge fitting and reduced structural integrity of the horizontal stabilizer. This action is intended to address the identified unsafe condition.

DATES: Comments must be received by January 12, 2004.

ADDRESSES: Submit comments in triplicate to the Federal Aviation Administration (FAA), Transport Airplane Directorate, ANM-114, Attention: Rules Docket No. 2002-NM-212-AD, 1601 Lind Avenue, SW., Renton, Washington 98055-4056. Comments may be inspected at this location between 9 a.m. and 3 p.m., Monday through Friday, except Federal holidays. Comments may be submitted via fax to (425) 227-1232. Comments may also be sent via the Internet using the following address: 9-anm-nprmcomment@faa.gov. Comments sent via fax or the Internet must contain “Docket No. 2002-NM-212-AD” in the subject line and need not be submitted in triplicate. Comments sent via the Internet as attached electronic files must be formatted in Microsoft Word 97 or 2000 or ASCII text.

The service information referenced in the proposed rule may be obtained from Boeing Commercial Aircraft Group, Long Beach Division, 3855 Lakewood Boulevard, Long Beach, California 90846, Attention: Data and Service Management, Dept. C1-L5A (D800-0024). This information may be examined at the FAA, Transport Airplane Directorate, 1601 Lind Avenue, SW., Renton, Washington; or at the FAA, Los Angeles Aircraft Certification Office, 3960 Paramount Boulevard, Lakewood, California.

FOR FURTHER INFORMATION CONTACT: Maureen Moreland, Aerospace Engineer, Airframe Branch, ANM-120L, FAA, Los Angeles Aircraft Certification Office, 3960 Paramount Boulevard, Lakewood, California 90712-4137; telephone (562) 627-5238; fax (562) 627-5210.

SUPPLEMENTARY INFORMATION:

Comments Invited

Interested persons are invited to participate in the making of the proposed rule by submitting such written data, views, or arguments as they may desire. Communications shall identify the Rules Docket number and be submitted in triplicate to the address specified above. All communications received on or before the closing date for comments, specified above, will be considered before taking action on the proposed rule. The proposals contained in this action may be changed in light of the comments received.

Submit comments using the following format:

• Organize comments issue-by-issue. For example, discuss a request to change the compliance time and a request to change the service bulletin reference as two separate issues.

• For each issue, state what specific change to the proposed AD is being requested.

• Include justification (e.g., reasons or data) for each request.

Comments are specifically invited on the overall regulatory, economic, environmental, and energy aspects of the proposed rule. All comments submitted will be available, both before and after the closing date for comments, in the Rules Docket for examination by interested persons. A report summarizing each FAA-public contact concerned with the substance of this proposal will be filed in the Rules Docket.

Commenters wishing the FAA to acknowledge receipt of their comments submitted in response to this action must submit a self-addressed, stamped postcard on which the following statement is made: “Comments to Docket Number 2002-NM-212-AD.” The postcard will be date stamped and returned to the commenter.

Availability of NPRMs

Any person may obtain a copy of this NPRM by submitting a request to the FAA, Transport Airplane Directorate, ANM-114, Attention: Rules Docket No. 2002-NM-212-AD, 1601 Lind Avenue, SW., Renton, Washington 98055-4056.

Discussion

The FAA has received a report indicating that the barrel nuts and bolts used to attach the horizontal stabilizer hinge fittings to the rear spar of the horizontal stabilizer were not properly protected against corrosion during assembly of certain McDonnell Douglas Model 717-200 airplanes. In addition, there is the possibility that the left- and right elevator sector pinch bolts may not have been properly treated for corrosion protection. These conditions, if not detected and corrected, could result in corrosion of the left- and right-hand horizontal stabilizer hinge fitting bolts, barrel nuts, and associated holes in the horizontal stabilizer structure, and the left- and right-hand elevator sector pinch bolts and associated holes, which could lead to loss of a hinge fitting and reduced structural integrity of the horizontal stabilizer.

Explanation of Relevant Service Information

The FAA has reviewed and approved Boeing Service Bulletin 717-55-0003, dated June 18, 2002, which describes the following procedures:

• Performing a general visual inspection for corrosion in the left- and right-hand horizontal stabilizer hinge fitting bolts, barrel nuts, and the associated holes in the horizontal stabilizer structure;

• Performing a visual inspection for corrosion in the left- and right-hand elevator sector pinch bolts and associated holes;

• Removing corrosion;

• Performing corrective actions; and

• Contacting Boeing for repair if corrosion rework exceeds tolerance limits.

Accomplishment of the actions specified in the service bulletin is intended to adequately address the identified unsafe condition.

Explanation of Requirements of Proposed Rule

Since an unsafe condition has been identified that is likely to exist or develop on other products of this same type design, the proposed AD would require accomplishment of the actions specified in the service bulletin described previously, except as discussed below.

Differences Between Proposed Rule and Service Bulletin

Operators should note that, although the service bulletin specifies that the manufacturer may be contacted for disposition of certain repair conditions, this proposal would require the repair of those conditions to be accomplished per a method approved by the FAA, or per data meeting the type certification basis of the airplane approved by a Boeing Company Designated Engineering Representative who has been authorized by the FAA to make such findings.

Operators should also note that, although the service bulletin does not list a grace period in the compliance times, this proposal adds a grace period to the compliance times. The FAA finds that such a grace period will preclude airplanes from being grounded unnecessarily.

Cost Impact

There are approximately 84 airplanes of the affected design in the worldwide fleet. The FAA estimates that 67 airplanes of U.S. registry would be affected by this proposed AD. The work hours vary according to the configuration group to which the affected airplane belongs.

The following table shows the estimated cost impact for airplanes affected by this proposed AD:

Table—Cost Impact
Airplane configuration group— | Work hours per airplane (estimated)— | Labor rate per work hour | Cost per airplane (estimated)—
1 | 61 | $65 | $3,965
2 | 57 | 65 | 3,705

The cost impact figures discussed above are based on assumptions that no operator has yet accomplished any of the proposed requirements of this AD action, and that no operator would accomplish those actions in the future if this proposed AD were not adopted. The cost impact figures discussed in AD rulemaking actions represent only the time necessary to perform the specific actions actually required by the AD. These figures typically do not include incidental costs, such as the time required to gain access and close up, planning time, or time necessitated by other administrative actions. Manufacturer warranty remedies may be available for labor costs associated with this proposed AD. As a result, the costs attributable to the proposed AD may be less than stated above.

Regulatory Impact

The regulations proposed herein would not have a substantial direct effect on the States, on the relationship between the national Government and the States, or on the distribution of power and responsibilities among the various levels of government. Therefore, it is determined that this proposal would not have federalism implications under Executive Order 13132.

For the reasons discussed above, I certify that this proposed regulation (1) is not a “significant regulatory action” under Executive Order 12866; (2) is not a “significant rule” under the DOT Regulatory Policies and Procedures (44 FR 11034, February 26, 1979); and (3) if promulgated, will not have a significant economic impact, positive or negative, on a substantial number of small entities under the criteria of the Regulatory Flexibility Act. A copy of the draft regulatory evaluation prepared for this action is contained in the Rules Docket. A copy of it may be obtained by contacting the Rules Docket at the location provided under the caption ADDRESSES.

List of Subjects in 14 CFR Part 39

Air transportation, Aircraft, Aviation safety, Safety.

The Proposed Amendment

Accordingly, pursuant to the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

McDonnell Douglas: Docket 2002-NM-212-AD.

Applicability: Model 717-200 airplanes, as listed in Boeing Service Bulletin 717-55-0003, dated June 18, 2002, certificated in any category.

Compliance: Required as indicated, unless accomplished previously.

To detect and correct corrosion of the left- and right-hand horizontal stabilizer hinge fitting bolts, barrel nuts, and associated holes in the horizontal stabilizer structure, and the left- and right-hand elevator sector pinch bolts and associated holes, which could lead to loss of a hinge fitting and reduced structural integrity of the horizontal stabilizer, accomplish the following:

Service Bulletin References

(a) The term “service bulletin,” as used in this AD, means the Accomplishment Instructions of Boeing Service Bulletin 717-55-0003, dated June 18, 2002.

Initial Inspection

(b) Prior to the accumulation of 18,000 total flight cycles, or within 15 months after the effective date of this AD, whichever is later: Perform the general visual inspections specified in paragraphs (c) and (d) of this AD, as applicable, in accordance with the service bulletin.

Note 1: For the purposes of this AD, a general visual inspection is defined as: “A visual examination of an interior or exterior area, installation, or assembly to detect obvious damage, failure, or irregularity. This level of inspection is made from within touching distance unless otherwise specified. A mirror may be necessary to enhance visual access to all exposed surfaces in the inspection area. This level of inspection is made under normally available lighting conditions such as daylight, hangar lighting, flashlight, or droplight and may require removal or opening of access panels or doors. Stands, ladders, or platforms may be required to gain proximity to the area being checked.”

Horizontal Stabilizer Hinge Fitting Bolt Inspection

(c) For Group 1 and Group 2 airplanes identified in paragraph 1.A.1. of the service bulletin: Perform a general visual inspection of the left- and right-hand horizontal stabilizer hinge fitting bolts, barrel nuts, and the associated holes in the horizontal stabilizer for corrosion in accordance with the service bulletin.

(1) If no corrosion is found, before further flight, install bolts and barrel nuts with applicable corrosion protection in accordance with the service bulletin.

(2) If any corrosion is found, before further flight, remove the corrosion and do the actions specified in paragraph (c)(2)(i) or (c)(2)(ii) of this AD, as applicable, in accordance with the service bulletin.

(i) If corrosion rework is within tolerance limits, before further flight, perform the corrective actions in accordance with the service bulletin, as applicable.

(ii) If corrosion rework exceeds the tolerance limits and the service bulletin specifies to contact Boeing for repair: Before further flight, repair in accordance with a method approved by the Manager, Los Angeles Aircraft Certification Office (ACO), FAA; or in accordance with data meeting the type certification basis of the airplane approved by a Boeing Company Designated Engineering Representative (DER) who has been authorized by the Manager, Los Angeles ACO, to make such findings. For a repair method to be approved, the approval must specifically reference this AD.

Elevator Sector Pinch Bolt Inspection

(d) For Group 1 airplanes identified in paragraph 1.A.1. of the service bulletin: Perform a general visual inspection of the left- and right-hand elevator sector pinch bolts and associated holes for corrosion in accordance with the service bulletin.

(1) If no corrosion is found, before further flight, install bolts and barrel nuts with applicable corrosion protection in accordance with the service bulletin.

(2) If any corrosion is found, before further flight, remove the corrosion and do the actions specified in paragraph (d)(2)(i) or (d)(2)(ii) of this AD, as applicable, in accordance with the service bulletin.

(i) If corrosion rework is within tolerance limits, before further flight, perform the corrective actions in accordance with the service bulletin, as applicable.

(ii) If corrosion rework exceeds the tolerance limits and the service bulletin specifies to contact Boeing for repair: Before further flight, repair in accordance with a method approved by the Manager, Los Angeles ACO, FAA; or in accordance with data meeting the type certification basis of the airplane approved by a Boeing Company DER who has been authorized by the Manager, Los Angeles ACO, to make such findings. For a repair method to be approved, the approval must specifically reference this AD.

Alternative Methods of Compliance

(e) In accordance with 14 CFR 39.19, the Manager, Los Angeles ACO, FAA, is authorized to approve alternative methods of compliance for this AD.

Issued in Renton, Washington, on November 20, 2003.
Kalene C. Yanamura,
Acting Manager, Transport Airplane Directorate, Aircraft Certification Service.

[FR Doc. 03-29573 Filed 11-25-03; 8:45 am]

BILLING CODE 4910-13-P